DEPARTMENT OF TRANSPORTATION

Office of the Secretary of Transportation

[Docket No. DOT-OST-2020-0105]

Approval of and Antitrust Immunity for Alliance Agreements Under 49 U.S.C. 41308 and 41309

AGENCY: Office of the Secretary of Transportation (OST), Department of Transportation (DOT).

ACTION: Notice of order to show cause.

SUMMARY: The United States Department of Transportation has issued an Order to Show Cause tentatively approving and granting antitrust immunity (“ATI”) to a proposed alliance between Delta Air Lines and LATAM Airlines, subject to certain conditions. Interested stakeholders are invited to submit comments on the tentative decision.

DATES: Objections or comments to the Department's tentative findings and conclusions shall be due no later than 14 calendar days from the service date of the Order (i.e., July 7, 2022), and answers to objections shall be due no later than seven (7) business days thereafter (i.e., July 18, 2022). In the event that no objections are filed, all further procedural steps shall be deemed waived, and we may enter an order making final our tentative findings and conclusions.

ADDRESSES: You may send comments, identified by docket number DOT-OST-2020-0105, via the Federal eRulemaking Portal: http://www.regulations.gov. Follow the instructions for sending comments. In addition, comments must be properly served on all interested parties in accordance with the Department's procedural regulations (14 CFR part 302).

FOR FURTHER INFORMATION CONTACT: Jason Horner, Transportation Industry Analyst, Office of Aviation Analysis, 1200 New Jersey Ave SE, Washington, DC 20590; telephone (202) 366-5903; email jason.horner@dot.gov.

SUPPLEMENTARY INFORMATION: On June 23, 2022, the Department issued an Order to Show Cause (Order 2022-6-15, “Show Cause Order”) tentatively approving and granting ATI to a proposed alliance between Delta Air Lines and LATAM Airlines, subject to certain conditions. If approved, Delta and LATAM will jointly plan, price, and share revenues and costs under a joint venture (JV) covering routes between the United States and Canada on one end, and Brazil, Chile, Colombia, Paraguay, Peru, and Uruguay on the other end.

The Show Cause Order has been posted in docket DOT-OST-2020-0105 at www.regulations.gov. We direct all interested persons to show cause why we should not issue an order making final our tentative findings and conclusions discussed herein. Objections or comments to our tentative findings and conclusions shall be due no later than 14 calendar days from the service date of the Order (i.e., July 7, 2022), and answers to objections shall be due no later than seven (7) business days thereafter (i.e., July 18, 2022). In the event that no objections are filed, all further procedural steps shall be deemed waived, and we may enter an order making final our tentative findings and conclusions.

(Authority: 14 CFR part 303.43)

Dated: June 23, 2022.
Carol Annette Petsonk,
Assistant Secretary for Aviation and International Affairs, U.S. Department of Transportation.

[FR Doc. 2022-13786 Filed 6-27-22; 8:45 am]

BILLING CODE 4910-9X-P